DEPARTMENT OF ENERGY

Federal Energy Regulatory Commission

[Docket No. IC21-38-000]

Commission Information Collection Activities (FERC-920, Electric Quarterly Report); Comment Request; Extension

AGENCY: Federal Energy Regulatory Commission, DOE.

ACTION: Notice of information collection and request for comments.

SUMMARY: In compliance with the requirements of the Paperwork Reduction Act of 1995 (PRA), the Federal Energy Regulatory Commission (Commission or FERC) is soliciting public comment on the currently approved information collection, FERC-920 (Electric Quarterly Report (EQR)), which will be submitted to the Office of Management and Budget (OMB) for a review of the information collection requirements. The Commission published a 60-day notice on September 24, 2021 (86 FR 53048) and received no comments.

DATES: Comments on the collection of information are due July 18, 2022.

ADDRESSES: Send written comments on FERC-920 to OMB through www.reginfo.gov/public/do/PRAMain, Attention: Federal Energy Regulatory Commission Desk Officer. Please identify the OMB control number (1902-0255) in the subject line. Your comments should be sent within 30 days of publication of this notice in the Federal Register.

Please submit copies of your comments (identified by Docket No. IC21-38-000) to the Commission as noted below. Electronic filing through https://www.ferc.gov is preferred.

• Electronic filing: Documents must be filed in acceptable native applications and print-to-PDF, but not in scanned or picture format.

• For those unable to file electronically, comments may be filed by USPS mail or by hand (including courier) delivery.

○ Mail via U.S. Postal Service only addressed to: Federal Energy Regulatory Commission, Secretary of the Commission, 888 First Street NE, Washington, DC 20426.

○ Hand (including courier) delivery to: Federal Energy Regulatory Commission, 12225 Wilkins Avenue, Rockville, MD 20852.

Instructions

OMB submissions must be formatted and filed in accordance with submission guidelines at www.reginfo.gov/public/do/PRAMain. Using the search function under the “Currently Under Review” field, select Federal Energy Regulatory Commission, click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-920, Electric Quarterly Reports (EQR).

OMB Control No.: 1902-0255.

Type of Respondent: Public utilities, and non-public utilities with more than a de minimis market presence.

Type of Request: Three-year extension of the FERC-920 information collection with no changes to the current reporting requirements.¹

¹ The activities in the instant Docket No. IC21-38-000 are separate from, and do not address, the activities in Technical Conference on Reassessment of the Electric Quarterly Report Requirements, Docket No. AD21-8-000 (technical conferences designed to provide a forum for Commission staff, filers, and data users to discuss potential changes to the current EQR data fields).

Abstract: The Commission originally set forth the EQR filing requirements in Order No. 2001 (Docket No. RM01-8-000) which required public utilities to electronically file EQRs summarizing transaction information for short-term and long-term cost-based sales and market-based rate sales and the contractual terms and conditions in their agreements for all jurisdictional services.² The Commission established the EQR reporting requirements to help ensure the collection of information needed to perform its regulatory functions over transmission and sales, while making data more useful to the public and allowing public utilities to better fulfill their responsibility under Federal Power Act (FPA) section 205(c) ³ to have rates on file in a convenient form and place. As noted in Order No. 2001, the EQR data is designed to “provide greater price transparency, promote competition, enhance confidence in the fairness of the markets, and provide a better means to detect and discourage discriminatory practices.”

² Revised Public Utility Filing Requirements, Order No. 2001, 67 FR 31043 (May 8, 2002), FERC Stats. & Regs. ¶ 31,127, reh'g denied, Order No. 2001-A, 100 FERC ¶ 61,074, reh'g denied, Order No. 2001-B, 100 FERC ¶ 61,342, order directing filing, Order No. 2001-C, 101 FERC ¶ 61,314 (2002), order directing filing, Order No. 2001-D, 102 FERC ¶ 61,334, order refining filing requirements, Order No. 2001-E, 105 FERC ¶ 61,352 (2003), order on clarification, Order No. 2001-F, 106 FERC ¶ 61,060 (2004), order revising filing requirements, Order No. 2001-G, 72 FR 56735 (Oct. 4, 2007), 120 FERC ¶ 61,270, order on reh'g and clarification, Order No. 2001-H, 73 FR 1876 (Jan. 10, 2008), 121 FERC ¶ 61,289 (2007), order revising filing requirements, Order No. 2001-I, 73 FR 65526 (Nov. 4, 2008), 125 FERC ¶ 61,103 (2008).

³ 16 U.S.C. 824d(c).

Since issuing Order No. 2001, the Commission has provided guidance and refined the reporting requirements, as necessary, to reflect changes in the Commission's rules and regulations.⁴ The Commission also adopted an Electric Quarterly Report Data Dictionary, which provides the definitions of certain terms and values used in filing EQR data.⁵

⁴ See, e.g., Revised Public Utility Filing Requirements for Electric Quarterly Reports, 124 FERC ¶ 61,244 (2008) (providing guidance on the filing of information on transmission capacity reassignments in EQRs).

⁵ Order No. 2001-G, 120 FERC ¶ 61,270 (2007). See the Data Dictionary at https://www.ferc.gov/sites/default/files/2020-11/Data_Dictionary_V3_5_Clean.pdf.

To increase transparency broadly across all wholesale markets subject to the Commission's jurisdiction, the Commission issued Order No. 768 in 2012.⁶ Order No. 768 required market participants that are excluded from the Commission's jurisdiction under FPA section 205 (non-public utilities) and have more than a de minimis market presence to file EQRs with the Commission.⁷ In addition, Order No. 768 revised the EQR filing requirements to build upon the Commission's prior improvements to the reporting requirements and further enhance the goals of providing greater price transparency, promoting competition, instilling confidence in the fairness of the markets, and providing a better means to detect and discourage anti-competitive, discriminatory, and manipulative practices.

⁶ Order No. 768, 77 FR 61896 (Oct. 11, 2012), FERC Stats. & Regs. ¶ 31,336 (2012).

⁷ 18 CFR 35.10b(b) provides that the term “de minimis market presence” means “any non-public utility that makes 4,000,000 megawatt hours or less of annual wholesale sales, based on the average annual sales for resale over the preceding three years as published by the Energy Information Administration's Form 861.”

EQR information allows the public to assess supply and demand fundamentals and to price interstate wholesale market transactions. This, in turn, results in greater market confidence, lower transaction costs, and ultimately supports competitive markets. In addition, the data filed in the EQR strengthens the Commission's ability to exercise its wholesale electric rate and electric power transmission oversight and enforcement responsibilities in accordance with the Federal Power Act. Without this information, the Commission would lack some of the data it needs to support its regulatory function over transmission and sales.

Estimate of Annual Burden and Cost: ⁸ The Commission estimates the annual public reporting burden ⁹ and cost (rounded) for the information collection ¹⁰ as:

⁸ The cost is based on FERC's 2021 Commission-wide average salary cost (wages plus benefits) of $87.00/hour. The Commission staff believes the FERC FTE (full-time equivalent) average cost for wages plus benefits is representative of the corresponding cost for the industry respondents.

⁹ Burden is defined as the total time, effort, or financial resources expended by persons to generate, maintain, retain, or disclose or provide information to or for a Federal agency. For further explanation of what is included in the information collection burden, refer to 5 CFR 1320.3.

¹⁰ The current OMB-approved inventory for FERC-920 includes a separate Information Collection (IC) labelled “Adding time zone (Order issued 6/18/2020), implementation & ongoing burden averaged over Years 1-3.” It covers 34 responses and 193 burden hours. The stand-alone IC and the related figures (averaged over three years) are being consolidated into the the overall estimates for the EQR.

FERC-920—Electric Quartely Report (EQR)
Requirements | Number of respondents | Average annual number of responses per respondent | Total number of responses | Average annual burden hrs. & cost per response | Total average annual burden hours & total annual cost | Cost per respondent ($)
| 1 | 2 | (1) * (2) = (3) | 4 | (3) * (4) = (5) | (5) ÷ (1)
Electric Quarterly Report | 2,929 | 4 | 11,716 | 18.1 $1,575 | 212,060 $18,452,700 | $6,300
Total |  |  |  |  | 212,060 $18,452,700 | 6,300

Comments: Comments are invited on: (1) whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

Dated: June 10, 2022.
Debbie-Anne A. Reese,
Deputy Secretary.

[FR Doc. 2022-13000 Filed 6-15-22; 8:45 am]

BILLING CODE 6717-01-P